NATIONAL SCIENCE FOUNDATION

Special Emphasis Panel in Mathematical Sciences; Notice of Meeting

In accordance with the Federal Advisory Committee Act (Pub. Law 92-463, as amended), the National Science Foundation announces the following meeting.

Name: Special Emphasis in Mathematical Sciences (1204).

Date and Time: December 11-13; 8:30 a.m. until 5 p.m.

Place: Rooms 310, 360, 370, National Science Foundation, 4201 Wilson Boulevard, Arlington, VA 22230.

Type of Meeting: Closed.

Contact Person: Drs. Keith N. Crank, William B. Smith, and John Stufken Program Directors, National Science Foundation, 4201 Wilson Boulevard, Arlington, VA 22230. Telephone: (703) 292-8870.

Purpose of Meeting: To provide advice and recommendations concerning proposals submitted to NSF for financial support.

Agenda: To review and evaluate proposals for the Statistics & Probability Program, as part of the selection process for awards.

Reason for Closing: The proposals being reviewed include information of a proprietary or confidential nature, including technical information; financial data, such as salaries and personal information concerning individuals associated with the proposals. These matters are exempt under 5 U.S.C. 552b(c), (4) and (6) of the Government in the Sunshine Act.

Dated: October 23, 2000.
Karen J. York,
Committee Management Officer.

[FR Doc. 00-27544 Filed 10-25-00; 8:45 am]

BILLING CODE 7555-01-M